DEPARTMENT OF COMMERCE

Foreign-Trade Zones Board

(Docket 43-2008)

Proposed Foreign-Trade Zone, Butte-Silver Bow, Montana, Application and Public Hearing

An application has been submitted to the Foreign-Trade Zones Board (the Board) by the City and County of Butte-Silver Bow, Montana, to establish a general-purpose foreign-trade zone at a site in Butte, Montana, adjacent to the Butte-Silver Bow CBP port of entry. The application was submitted pursuant to the provisions of the FTZ Act, as amended (19 U.S.C. 81a-81u), and the regulations of the Board (15 CFR Part 400). It was formally filed on August 4, 2008. The applicant is authorized to make the proposal under Montana Code Sections 30-15-101 through 103.

The proposed zone would consist of one site covering 1,545 acres in Butte-Silver Bow, Montana and is within a Tax Increment Financing Industrial District located at 119041 German Gulch Road, Butte, Montana. The site is owned by the City and County of Butte-Silver Bow, the Port of Montana Authority, REC Advanced Silicon Materials LLC, and Pioneer Concrete & Fuel, Inc.

The application indicates a need for zone services in Butte-Silver Bow, Montana. Several firms have indicated an interest in using zone procedures for warehousing/distribution activities for a variety of products. Specific manufacturing approvals are not being sought at this time. Requests would be made to the Board on a case-by-case basis.

In accordance with the Board's regulations, Kathleen Boyce of the FTZ staff is designated examiner to investigate the application and report to the Board.

As part of the investigation, the Commerce examiner will hold a public hearing on September 11, 2008 at 1:00 pm, in the Council Chambers, Room 312, Butte-Silver Bow Courthouse, 155 West Granite St., Butte, MT 59701.

Public comment on the application is invited from interested parties. Submissions (original and 3 copies) shall be addressed to the Board's Executive Secretary at the address listed below. The closing period for their receipt is October 14, 2008. Rebuttal comments in response to material submitted during the foregoing period may be submitted during the subsequent 15-day period (to October 27, 2008).

A copy of the application and accompanying exhibits will be available for public inspection at the Office of the Chief Executive, Butte-Silver Bow Courthouse, 155 West Granite Street, Butte, Montana 59701; and, Office of the Executive Secretary, Foreign-Trade Zones Board, Room 2111, U.S. Department of Commerce, 1401 Constitution Avenue, NW, Washington, DC 20230.

For further information, contact Kathleen Boyce at Kathleen_Boyce@ita.doc.gov or (202) 482-1346.

Dated: August 5, 2008.
Andrew McGilvray,
Executive Secretary.

[FR Doc. E8-18623 Filed 8-11-08; 8:45 am]

BILLING CODE 3510-DS-S